DEPARTMENT OF COMMERCE

United States Patent and Trademark Office

37 CFR Part 1

RIN 0651-AB05

Changes To Implement Eighteen-Month Publication of Patent Applications; Correction

AGENCY: United States Patent and Trademark Office, Commerce.

ACTION: Final rule; correction.

SUMMARY: The United States Patent and Trademark Office (Office) published a final rule in the Federal Register of September 20, 2000, revising the rules of practice in patent cases to implement the eighteen-month publication provisions of the American Inventors Protection Act of 1999. This document corrects two errors in that final rule.

EFFECTIVE DATE: November 29, 2000.

FOR FURTHER INFORMATION CONTACT: Concerning this rule: Robert W. Bahr by telephone at (703) 308-6906, or by mail addressed to: Box Comments—Patents, Assistant Commissioner for Patents, Washington, D.C. 20231, or by facsimile to (703) 872-9411, marked to the attention of Robert W. Bahr.

SUPPLEMENTARY INFORMATION: The Office published a final rule in the Federal Register of September 20, 2000 (65 FR 57023), entitled “Changes to Implement Eighteen-Month Publication of Patent Applications.” This document corrects errors in § 1.55 and § 1.99 as discussed below.

Section 1.55(a) should refer to “35 U.S.C. 119(a) through (d) and (f), 172, and 365(a) and (b)” rather than “35 U.S.C. 119(a) through (d), 172, and 365(a)” (references to 35 U.S.C. 119(f) and 365(b) were inadvertently omitted). Section 1.55(c) should refer to “35 U.S.C. 119(a) through (d) and (f), and 365(a)” rather than “35 U.S.C. 119(a) through (d) and 365(a)” (a reference to 35 U.S.C. 119(f) was inadvertently omitted).

Section 1.99(f) should not include its last sentence (“[N]o further submission on behalf of the member of the public will be considered, unless such submission raises new issues which could not have been earlier presented.”).

In rule FR Doc. 00-23822, published on September 20, 2000 (65 FR 57023), make the following corrections:

§ 1.55 [Corrected]

1. On page 57053, in the third column, in § 1.55, in paragraph (a) introductory text, in lines 5 and 6, correct “119(a) through (d), 172, and 365(a)” to read “119(a) through (d) and (f), 172, and 365(a) and (b);” and on page 57054, in the first column, in § 1.55, in paragraph (c) introductory text, in each of lines 4, 9, and 19, correct “119(a)-(d) or 365(a)” to read “119(a) through (d) and (f), or 365(a)”.

§ 1.99 [Corrected]

2. On page 57056, in the second column, in § 1.99, in paragraph (f), in lines 14 through 19, remove the sentence “No further submission on behalf of the member of the public will be considered, unless such submission raises new issues which could not have been earlier presented.”

Dated: October 30, 2000.
Albin F. Drost,
Acting General Counsel.

[FR Doc. 00-28315 Filed 11-3-00; 8:45 am]

BILLING CODE 3510-16-P